DEPARTMENT OF DEFENSE

Department of the Army; Corps of Engineers

Intent To Prepare an Environmental Impact Statement for the Conveyance of Federal Lands at Lake Texoma to the State of Oklahoma, Marshall County, OK

AGENCY: Department of the Army, U.S. Army Corps of Engineers, DoD.

ACTION: Notice of Intent.

SUMMARY: The purpose of the Environmental Impact Statement (EIS) is to address alternatives and environmental impacts associated with the conveyance of approximately 1,022 acres of Federal land located in Marshall County, Oklahoma, at Lake Texoma, Oklahoma and Texas, to the State of Oklahoma.

ADDRESSES: Questions or comments concerning the proposed action should be addressed to Mr. Stephen L. Nolen, Chief, Environmental Analysis and Compliance Branch, Tulsa District, U.S. Army Corps of Engineers, CESWT-PE-E, 1645 S. 101st E. Ave., Tulsa, OK 74128-4629.

FOR FURTHER INFORMATION CONTACT: Mr. Stephen L. Nolen, (918) 669-7660, fax: (918) 669-7546, e-mail: Stephen.L.Nolen@usace.army.mil.

SUPPLEMENTARY INFORMATION: The Water Resources Development Act of 1999 (Pub. L. 106-53 113 Stat. 359) directed the Secretary of the Army (Secretary) to convey to the State of Oklahoma, at fair market value, all right, title and interest of the United States in and to approximately 1,580 acres of land located in Marshall County, OK and leased to the State of Oklahoma for public park and recreation purposes. In 2005, approximately 558 acres of these lands were conveyed to the State of Oklahoma through the Oklahoma Commissioners of the Land Office. The State of Oklahoma, through the Oklahoma Tourism and Recreation Department, is now requesting conveyance of additional lands up to the balance (approximately 1,022 acres) of that authorized by the Water Resources Development Act of 1999.

The exact acreage and description of the real property shall be determined by a survey that is satisfactory to the Secretary. The real property is currently held in fee by the U.S. Government and managed under the jurisdiction of the Tulsa District Corps of Engineers as a part of Lake Texoma, a multipurpose reservoir located along the Red River in Oklahoma and Texas. The lands subject to this action are located east of Kingston, Oklahoma along the western shore of the Washita River Arm of Lake Texoma in Marshall County, OK. Conveyed lands are anticipated to be subject to development, in conjunction with development of lands previously conveyed and adjacent private lands, to include such features as single and multi-family residential housing, hotel and conference facilities, restaurants, golf course(s), retail and commercial space, public boat ramp(s), beach and camping amenities, courtesy boat slips, and related commercial development facilities.

Reasonable alternatives to be considered include varying amounts of acreages to be conveyed, alternative deed restrictions on conveyed lands, varying development features and locations, alternative locations and nature of shoreline development, and no action.

Issues to be addressed in the EIS include but are not limited to: (1) Socioeconomic impacts associated with planned development, (2) matters pertaining to shoreline management and development, (3) potential impacts to cultural and ecological resources, (4) public access and safety, (5) impacts to lake use, public parks and recreation, (6) aesthetics, (7) water and wastewater infrastructure, (8) lake water quality, (9) traffic patterns, (10) terrestrial and aquatic fish and wildlife habitat, (11) Federally-listed threatened and endangered species, (12) potential use of dry-stack boat storage or other boat storage methods, and (13) cumulative impacts associated with past, current, and reasonably foreseeable future actions at Lake Texoma.

A public scoping meeting for the action will be conducted in early fall, 2009 in Kingston, OK or the vicinity. News releases and notices informing the public and local, state, and Federal agencies of the proposed action and date of the public scoping meeting will be published in local newspapers. Comments received as a result of this notice, news releases, and the public scoping meeting will be used to assist the Tulsa District Corps of Engineers in identifying potential impacts to the quality of the human or natural environment. Affected Federal, state, or local agencies, affected Indian tribes, and other interested private organizations and parties are encouraged to participate in the scoping process by forwarding written comments to (see ADDRESSES) or attending the scoping meeting.

The draft EIS will be available for public review and comment. While the specific date for release of the draft EIS has yet to be determined, all interested agencies, tribes, organizations and parties expressing an interest in this action will be placed on a mailing list for receipt of the draft EIS. In order to be considered, any comments and suggestions should be forwarded to (see ADDRESSES) in accordance with dates specified upon release of the draft EIS.

Dated: August 11, 2009.
Anthony C. Funkhouser,
Colonel, U.S. Army, District Commander.

[FR Doc. E9-20132 Filed 8-20-09; 8:45 am]

BILLING CODE 3720-58-P